FEDERAL RESERVE SYSTEM

Agency Information Collection Activities: Announcement of Board Approval Under Delegated Authority and Submission to OMB

ACTION: Board of Governors of the Federal Reserve System

SUMMARY: Background.

Notice is hereby given of the final approval of proposed information collections by the Board of Governors of the Federal Reserve System (Board) under OMB delegated authority, as per 5 CFR 1320.16 (OMB Regulations on Controlling Paperwork Burdens on the Public). Board-approved collections of information are incorporated into the official OMB inventory of currently approved collections of information. Copies of the OMB 83-Is and supporting statements and approved collection of information instrument(s) are placed into OMB's public docket files. The Federal Reserve may not conduct or sponsor, and the respondent is not required to respond to, an information collection that has been extended, revised, or implemented on or after October 1, 1995, unless it displays a currently valid OMB control number.

FOR FURTHER INFORMATION CONTACT: Federal Reserve Board Clearance Officer--Michelle Long--Division of Research and Statistics, Board of Governors of the Federal Reserve System, Washington, DC 20551 (202-452-3829).

OMB Desk Officer--Mark Menchik--Office of Information and Regulatory Affairs, Office of Management and Budget, New Executive Office Building, Room 10235, Washington, DC 20503, or e-mail to mmenchik@omb.eop.gov.

Final approval under OMB delegated authority of the extension for three years, with revision of the following reports:

1. Report title: Quarterly Report of Assets and Liabilities of Large Foreign Offices of U.S. Banks

Agency form number: FR 2502q

OMB Control number: 7100-0079

Frequency: Quarterly

Reporters: Large foreign branches and banking subsidiaries of U.S. depository institutions

Annual reporting hours: 826 hours

Estimated average hours per response: 3.5 hours

Number of respondents: 59

General description of report: This information collection is required (12 U.S.C. §§ 248(a) (2), 353 et seq., 461, 602, and 625) and is given confidential treatment (5 U.S.C. § 552(b) (4)).

Abstract: This reporting form collects data quarterly on the geographic distribution of the assets and liabilities of major foreign branches and subsidiaries of U.S. commercial banks and of Edge and agreement corporations. Data from this reporting form comprise a piece of the flow of funds data that are compiled by the Federal Reserve.

Current Actions: On January 24, 2006, the Federal Reserve published a notice soliciting comments on the proposed revisions to the Quarterly Report of Assets and Liabilities of Large Foreign Offices of U.S. Banks (71 FR 3844). The comment period ended on March 27, 2006. The Federal Reserve will implement the following revisions, effective for the March 31, 2006 report date: (1) discontinue Schedule A as a result of the elimination of M3 and (2) reduce the reporting panel to require offices located only in the Caribbean and the United Kingdom to file the FR 2502q. In addition, the Federal Reserve will implement the following revisions, effective for the June 30, 2006 report date: (1) discontinue Memorandum item 3a; (2) revise the instructions for data to be reported in the unallocated data items; and (3) conform the names of several countries and one region to the country list compiled by the U.S. Treasury.

The Federal Reserve received one comment letter from a federal agency describing its use of the data to prepare economic account information and estimates of international transactions. The revisions will be implemented as originally proposed.

2. Report title: Consolidated Report of Condition and Income for Edge and Agreement Corporations

Agency form number: FR 2886b

OMB control number: 7100-0086

Frequency: Quarterly

Reporters: Edge and agreement corporations

Annual reporting hours: 3,055

Estimated average hours per response: 14.7 banking corporations, 8.5 investment corporations

Number of respondents: 19 banking corporations, 57 investment corporations

General description of report: This information collection is mandatory (12 U.S.C. §§ 602 and 625). For Edge corporations engaged in banking, information collection on schedules RC-M and RC-V are held confidential pursuant to Section (b)(4) of the Freedom of Information Act (5 U.S.C. 552(b)(4)). For investment Edge corporations, only information collected on schedule RC-M are given confidential treatment pursuant to Section (b)(4) of the Freedom of Information Act (5 U.S.C. 552(b)(4).

Abstract: This reporting form comprises a balance sheet, income statement, two schedules reconciling changes in capital and reserve accounts, and ten supporting schedules, and it parallels the commercial bank Consolidated Reports of Condition and Income (Call Report)(FFIEC 031; OMB No. 7100-0036). The Federal Reserve uses the data collected on the FR 2886b to supervise Edge corporations, identify present and potential problems, and monitor and develop a better understanding of activities within the industry.

Current action: On January 24, 2006, the Federal Reserve published a notice soliciting comments on the proposed revisions to the FR 2886b (71 FR 3844). The comment period ended on March 27, 2006. The notice described the Federal Reserve's proposal to delete three data items related to bankers acceptances, consistent with proposed changes to the Call Report and to make minor clarifications to the reporting form and instructions. The Federal Reserve did not receive any comments on the proposed revisions. The revisions will be effective as of March 31, 2006.

Board of Governors of the Federal Reserve System, April 4, 2006.
Jennifer J. Johnson
Secretary of the Board.

[FR Doc. E6-5125 Filed 4-6-06; 8:45 am]

BILLING CODE 6210-01-S